DEPARTMENT OF ENERGY

Federal Energy Regulatory Commission

[Docket No. RP00-476-006]

Southern Natural Gas Company; Notice Of Compliance Filing

November 5, 2004.

Take notice that on November 1, 2004, Southern Natural Gas Company (SNG) tendered for filing its first-year report of segmentation activity in accordance with the Commission's July 30, 2003 order issued in this proceeding. SNG further states that it also tendered certain tariff sheets to its FERC Gas Tariff to allow shippers to segment supplies from production area pools and from CSS and ISS storage accounts through zone 1 north system or zone 1 south system pools. SNG states that the tariff sheets listed below, are proposed to become effective January 1, 2005.

Seventh Revised Volume No. 1

Twelfth Revised Sheet No. 126

Second Revised Sheet No. 126.02

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3218 Filed 11-17-04; 8:45 am]

BILLING CODE 6717-01-P